DEPARTMENT OF THE TREASURY

Notice of the Data Transparency Town Hall Meeting

AGENCY: Office of the Fiscal Assistant Secretary, U.S. Treasury Department (Treasury).

ACTION: Meeting notice.

SUMMARY: Treasury's Office of the Fiscal Assistant Secretary will host a Data Transparency Town Hall meeting for the public to make presentations to federal employees (executives and key staff) who will be responsible for implementing the DATA Act, as indicated below. This notice is intended to notify public and private stakeholders, including the general public; individuals affiliated with state, local, and tribal governments; civic and professional organizations; and other interested parties, of the opportunity to present their individual views. Space is limited.

DATES: The town hall meeting will be held on September 26, 2014, from 9:00 a.m. to 5:00 p.m. Eastern Daylight Time.

ADDRESSES: Department of the Treasury, Main Treasury Building, 1500 Pennsylvania Avenue NW., Washington, DC 20220.

FOR FURTHER INFORMATION CONTACT: Ms. Renata Maziarz, Bureau of the Fiscal Service, 401 14th Street SW., Washington, DC 20227, Telephone 202-874-5732.

SUPPLEMENTARY INFORMATION:

Background: On May 9, 2014, S. 994, known as the “Digital Accountability and Transparency Act” (DATA Act) (Pub. L. 113-101), was signed into law. The purpose of the Act is to establish government-wide financial data standards and increase the availability, accuracy, and usefulness of federal spending information.

Agenda: The purpose of the September 26, 2014 meeting is to allow public and private stakeholders to make presentations to federal employees (executives and key staff) who will be responsible for implementing the DATA Act regarding federal spending transparency and data standardization. Senior executives from Treasury, Office of Management and Budget (OMB), and the White House will make opening and closing remarks. Representatives from federal agencies will present on efforts to standardize federal financial management data. The rest of the meeting will feature presentations by members of public on the following:

(1) Why is federal spending transparency important? Stakeholder perspectives.

Goal: Hear from public and private stakeholders on the impact and need for spending transparency.

Questions:

A. What organization are you affiliated with, if any?

B. From your perspective, why is federal spending transparency important?

C. Where do you find federal spending information now?

D. How do you use federal spending information?

E. How would you use the additional information required by the DATA Act?

F. What suggestions do you have for prioritizing federal spending information enhancements?

(2) Transforming financial management reporting through standardized data exchanges.

Goal: Hear from experts that have implemented data exchange standards (e.g., Extensible Markup Language (XML), Xtensible Business Reporting Language (XBRL), National Information Exchange Model (NIEM)) to increase transparency and reduce reporting burden.

Questions:

A. What organization are you affiliated with, if any?

B. How have non-proprietary industry standards for exchanging data been implemented?

C. How have you benefited from implementing the industry standard for exchanging data?

D. How have you increased transparency and/or reduced reporting burden by implementing the industry standard for exchanging data?

E. What suggestions and/or lessons learned do you have for the Federal Government in implementing standards for exchanging financial data?

(3) Technical Implementation: Industry Perspective.

Goal: Demonstrate what is possible from a technology perspective.

Questions:

A. What organization are you affiliated with, if any?

B. What is possible from a technical implementation perspective for improving access to data?

C. What is possible from a technical implementation perspective for displaying federal spending information in graph or other visual formats?

Procedures for notifying the Treasury of attendance: Persons wishing to attend the meeting should submit an RSVP electronically to Ms. Renata Maziarz at Renata.Maziarz@fiscal.treasury.gov and write “September 26, 2014 Data Transparency Town Hall RSVP” in the subject line, or by mail to Renata Maziarz, Bureau of the Fiscal Service, 401 14th Street SW., Suite 271 D, Washington, DC 20227. “Data Transparency Town Hall RSVP” should be written on the envelope. Because paper mail in the Washington, DC area may be subject to delay, it is recommended that you RSVP electronically. Please include your name, affiliation (or indicate “self”), address, email address, telephone number, and indicate whether you wish to make a presentation, in your RSVP.

Procedures for submitting public comments or presentation materials: Persons wishing to present at the meeting should email their written comments and/or presentation materials to Ms. Renata Maziarz at Renata.Maziarz@fiscal.treasury.gov and write “September 26, 2014, 2014 Data Transparency Town Hall public comment” in the subject line. Please provide these written comments or presentation materials on the topics listed above no later than September 19, 2014. You may mail your public comments or presentation materials to Ms. Renata Maziarz, Bureau of the Fiscal Service, 401 14th Street SW., Suite 271 D, Washington, DC 20227, “Data Transparency Town Hall public comment” should be written on the envelope. Because paper mail in the Washington, DC area may be subject to delay, it is recommended that you submit your comments or presentation materials electronically.

Presentations: Treasury will provide the necessary visual equipment to project the submitted presentations to the audience the day of the meeting. Hard copies will not be provided.

Space and Time Limitations: There will be limited space for this meeting; therefore, public and private stakeholders who have submitted written comments and/or signed up in advance to make presentations will be given priority in attending this meeting and speaking at the Data Transparency Town Hall. A time limit of no more than 20 minutes each (followed by a 10 minute question and answer session) will be placed on those members of the public wishing to speak at the meeting. Treasury will make every effort to hear the individual views of all interested persons. Treasury plans to conduct the meeting in a fashion that will facilitate the orderly conduct of business.

Meeting Record: The submitted presentations will be the only record of the meeting and will be posted on the Bureau of the Fiscal Service's Web site after the public meeting.

Arrival: Interested parties are encouraged to arrive at least 30 minutes early to accommodate security procedures. A valid government-issued photo identification card will be required to enter the building. Additional clearance information will be obtained from attendees and presenters once they are selected.

Special Accommodations: The public meeting is physically accessible to people with disabilities. Requests for sign language interpretation or other auxiliary aids should be directed to Ms. Renata Maziarz at least 5 working days prior to the meeting date.

David A. Lebryk,
Fiscal Assistant Secretary.

[FR Doc. 2014-21213 Filed 9-4-14; 8:45 am]

BILLING CODE 4810-39-P